DEPARTMENT OF DEFENSE

Department of the Navy

[Docket ID: USN-2013-0043]

Privacy Act of 1974; System of Records

AGENCY: Department of the Navy, DoD.

ACTION: Notice to alter a System of Records.

SUMMARY: The Department of the Navy proposes to alter the system of records, N01070-5, entitled “Database of Retired Navy Flag Officers” in its inventory of record systems subject to the Privacy Act of 1974, as amended. This system maintains a directory of retired Navy flag officers for the purpose of providing briefings and outreach materials, and facilitating interaction between retired and active duty Navy flag officers via a limited access Web site.

DATES: This proposed action will be effective on January 6, 2014 unless comments are received which result in a contrary determination. Comments will be accepted on or before January 6, 2014.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html.

The proposed system report, as required by 5 U.S.C. 552a(r) of the Privacy Act of 1974, as amended, was submitted on October 24, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 3, 2013.
Aaron Siegel,
Alternate OSD Federal Register Liaison Officer, Department of Defense.

N01070-5

System name:

Database of Retired Navy Flag Officers (March 7, 2007, 72 FR 10189).

Changes:

* * * * *

Categories of records in the system:

Delete entry and replace with “The file contains personal and professional information to include: full name, nickname, retired rank, work and/or home address, home and/or office telephone/fax/cell phone numbers, and email address.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses that appear at the beginning of the Navy's compilation of systems of records notices may apply to this system.”

* * * * *

Storage:

Delete entry and replace with “Electronic storage media.”

* * * * *

Retention and disposal:

Delete entry and replace with “Destroy when files are no longer needed.”

* * * * *

Notification procedure:

Delete entry and replace with “Individuals seeking to determine whether information about themselves is contained in this system should address written inquiries to the Chief of Naval Operations (DNS-4), 2000 Navy Pentagon, Washington, DC 20350-2000 or visit the Retired Flag Web site.

Requests should include full name, address and signature.

The system manager may require a notarized signature as a means of proving the identity of the individual requesting access to the records.”

* * * * *

[FR Doc. 2013-29123 Filed 12-5-13; 8:45 am]

BILLING CODE 3810-FF-P